DEPARTMENT OF COMMERCE

International Trade Administration

[A-570-117]

Wood Mouldings and Millwork Products From the People's Republic of China: Final Results of Antidumping Duty Administrative Review; 2023-2024

AGENCY: Enforcement and Compliance, International Trade Administration, Department of Commerce.

SUMMARY: The U.S. Department of Commerce (Commerce) determines that Yinfeng Imp & Exp Trading Co., Ltd./Fujian Province Youxi City Mangrove Wood Machining Co., Ltd. (Yinfeng/Mangrove), and Longquan Jiefeng Trade Co., Ltd. and Zhejiang Senya Board Industry Co., Ltd. (Longquan Jiefeng/Senya Board), exporters of wood mouldings and millworks products (millworks) from the People's Republic of China (China), sold subject merchandise in the United States at prices below normal value (NV) during the period of review (POR) from February 1, 2023, through January 31, 2024.

DATES: Applicable February 24, 2026.

FOR FURTHER INFORMATION CONTACT: Hannah Lee or Brian Smith, AD/CVD Operations, Office VIII, Enforcement and Compliance, International Trade Administration, U.S. Department of Commerce, 1401 Constitution Avenue NW, Washington, DC 20230; telephone: (202) 482-1216 or (202) 482-1766, respectively.

SUPPLEMENTARY INFORMATION:

Background

On June 16, 2025, Commerce published the Preliminary Results of this administrative review.¹ On July 24, 2025, Commerce issued its Post Preliminary Analysis to make certain changes to its differential pricing analysis in this administrative review, and invited interested parties to comment.² Due to the lapse in appropriations and Federal Government Shutdown, on November 14, 2025, Commerce tolled all deadlines in administrative proceedings by 47 days,³ and, due to a backlog of documents that were electronically filed via Enforcement and Compliance's Antidumping and Countervailing Duty Centralized Electronic Service System (ACCESS) during the Federal Government shutdown, on November 24, 2025, Commerce tolled all deadlines in administrative proceedings by an additional 21 days.⁴ On November 18, 2025, Commerce extended the final results deadline by additional 60 days.⁵ Accordingly, the current deadline for the final results of this review is February 19, 2026.

¹ See Wood Mouldings and Millwork Products From the People's Republic of China: Preliminary Results and Rescission, in Part, of Antidumping Duty Administrative Review; 2023-2024, 90 FR 25209 (June 16, 2025) (Preliminary Results), and accompanying Preliminary Decision Memorandum.

² See Memorandum, “Post-Preliminary Analysis for the Administrative Review of Wood Mouldings and Millwork Products from the People's Republic of China,” dated July 24, 2025; see also Memorandum, “Revised Briefing Schedule” dated July 28, 2025.

³ See Memorandum, “Deadlines Affected by the Shutdown of Federal Government,” dated November 14, 2025.

⁴ See Memorandum, “Tolling of all Case Deadlines,” dated November 24, 2025.

⁵ See Memorandum, “Extension of Deadline for Final Results of Antidumping Duty Administrative Review,” dated November 18, 2025.

For the events subsequent to the Preliminary Results, see the Issues and Decision Memorandum.⁶ The Issues and Decision Memorandum is a public document and is on file electronically via ACCESS. ACCESS is available to registered users at https://access.trade.gov. In addition, a complete version of the Issues and Decision Memorandum can be accessed directly at https://access.trade.gov/public/FRNoticesListLayout.aspx.

⁶ See Memorandum, “Issues and Decision Memorandum for the Final Results of Antidumping Duty Administrative Review: Wood Mouldings and Millwork Products from the People's Republic of China; 2023-2024,” dated concurrently with, and hereby adopted by, this notice (Issues and Decision Memorandum).

Commerce is conducting this administrative review in accordance with section 751 of the Tariff Act of 1930, as amended (the Act).

Scope of the Order ⁷

⁷ See Wood Mouldings and Millwork Products from the People's Republic of China: Amended Final Antidumping Duty Determination and Antidumping Duty Order, 86 FR 9486 (February 16, 2021) (Order).

The products covered by the Order are millworks from China. A full description of the scope of the Order is contained in the Issues and Decision Memorandum.

Analysis of Comments Received

All issues raised by interested parties in the case and rebuttal briefs are addressed in the Issues and Decision Memorandum. A list of the issues addressed in the Issues and Decision Memorandum is provided in Appendix I to this notice.

Changes Since the Preliminary Results

Based on a review of the record and our analysis of comments received from interested parties regarding the Preliminary Results, Commerce made certain changes to the margin calculations for Yinfeng/Mangrove, Longquan Jiefeng/Senya Board, and the non-selected companies granted separate rates in this administrative review.⁸ In addition, we have treated two companies as part of the China-wide entity.⁹ For further details on the changes since the Preliminary Results, see the Issues and Decision Memorandum.

⁸ See Memoranda, “Final Results Calculation Memorandum for Yinfeng/Mangrove,” “Final Results Calculation Memorandum for Jiefeng/Senya Board,” “Final Calculation of the Cash Deposit Rate for Non-Selected Companies,” and, “Surrogate Values for the Final Results,” all dated concurrently with this notice.

⁹ See Appendix III for these companies' names.

Separate Rates

No parties commented on Commerce's preliminary separate rate decisions. Therefore, for these final results of review, we continue to grant both mandatory respondents and the companies listed in Appendix II a separate rate. We note that in the Preliminary Results, Commerce incorrectly listed Sanming Lintong Trading Co., Ltd. in the list of companies eligible for a separate rate when, in fact, we rescinded the review with respect to Sanming Lintong Trading Co., Ltd. in the Preliminary Results. See the Issues and Decision Memorandum for further discussion.

China-Wide Entity

As noted in the Preliminary Results, in accordance with Commerce's policy, the China-wide entity is not under review because no party specifically requested, and Commerce did not self-initiate, a review of the China-wide entity.¹⁰ Thus the weighted-average dumping margin for the China-wide entity, as adjusted for export subsidies (i.e., 220.87 percent),¹¹ is not subject to change as a result of this administrative review.¹² Because the two companies listed in Appendix III did not submit separate rate certifications but had entries of the subject merchandise during the POR, we have treated these companies as the part of China-wide entity for these final results.

¹⁰ See Antidumping Proceedings: Announcement of Change in Department Practice for Respondent Selection in Antidumping Duty Proceedings and Conditional Review of the Nonmarket Economy Entity in NME Antidumping Duty Proceedings, 78 FR 65963 (November 4, 2013); see also Preliminary Results.

¹¹ See Order, 86 FR at 9488. The weighted-average dumping margin for the China-wide entity (231.60 percent) was adjusted for export subsidies to determine the cash deposit rate (220.87 percent) for companies in the China-wide entity.

¹² See Appendix III.

Final Results of Administrative Review

Commerce determines that the following weighted-average dumping margins exist for the POR, February 1, 2023, through January 31, 2024:

¹³ See Appendix II.

Exporter | Weighted-average dumping margin (percent)
Yinfeng Imp & Exp Trading Co., Ltd./Fujian Province Youxi City Mangrove Wood Machining Co., Ltd | 31.18
Longquan Jiefeng Trade Co., Ltd./Zhejiang Senya Board Industry Co., Ltd | 61.86
Non-Selected Companies Eligible for a Separate Rate ¹³ | 37.24

Disclosure

We intend to disclose the calculations performed for the final results of this review to parties in this proceeding within five days of any public announcement or, if there is no public announcement, within five days of the date of publication of this notice in the Federal Register, in accordance with 19 CFR 351.224(b).

Assessment Rates

Pursuant to section 751(a)(2)(C) of the Act and 19 CFR 351.212(b), Commerce has determined, and U.S Customs and Border Protection (CBP) shall assess, antidumping duties on all appropriate entries covered by this review.

For Yinfeng/Mangrove and Longquan Jiefeng/Senya Board, for which we have calculated weighted-average dumping margins that are not zero or de minimis (i.e., less than 0.5 percent), Commerce calculated importer- (or customer-) specific ad valorem assessment rates by dividing the total amount of dumping for all reviewed U.S. sales of subject merchandise to that importer (or customer) by the total entered value of the subject merchandise sold to that importer (or customer) in accordance with 19 CFR 351.212(b)(1). Where a respondent did not report entered value, we calculated per-unit importer- (or customer-) specific assessment rates based on the ratio of the total amount of antidumping duties calculated for the examined sales to the total quantity of those sales. Where an importer-specific per-unit assessment rate is zero or de minimis, Commerce will instruct CBP to liquidate appropriate entries without regard to antidumping duties. We will instruct CBP to assess antidumping duties on all appropriate entries covered by this review when the importer-specific assessment ad valorem rate calculated is above de minimis (i.e., 0.50 percent). Where an importer-specific ad valorem assessment rate is zero or de minimis, Commerce will instruct CBP to liquidate the appropriate entries without regards to antidumping duties.

We will instruct CBP to apply an ad valorem assessment rate of 220.87 percent to all POR entries of subject merchandise which were exported by the companies in the China-wide entity.¹⁴ For entries of subject merchandise during the POR produced by the mandatory respondents for which they did not know their merchandise was destined for the United States, we intend to instruct CBP to liquidate such entries at the China-wide rate (i.e., 220.87 percent) if there is no rate for the intermediate company or companies involved in the transaction.

¹⁴ For a full discussion of this practice, see Non-Market Economy Antidumping Proceedings: Assessment of Antidumping Duties, 76 FR 64694 (October 24, 2011).

Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

Cash Deposit Requirements

The following cash deposit requirements will be effective upon publication of these final results for all shipments of the subject merchandise from China entered, or withdrawn from warehouse, for consumption on or after the publication date, as provided by section 751(a)(2)(C) of the Act: (1) for the companies eligible for a separate rate, including the mandatory respondents, the cash deposit rate will be equal to the weighted-average dumping margin listed in the table above; (2) for previously examined Chinese and non-Chinese exporters not listed above that received a separate rate in a prior completed segment of this proceeding, the cash deposit rate will continue to be the existing exporter-specific cash deposit rate; (3) for all Chinese exporters of subject merchandise that have not been found to be entitled to a separate rate, the cash deposit rate will be the rate for the China-wide entity (i.e., 220.87 percent); and (4) for all non-Chinese exporters of subject merchandise which have not received their own separate rate, the cash deposit rate will be the rate applicable to the Chinese exporter that supplied that non-Chinese exporter. These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act.

Dated: February 19, 2026.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Separate Rates

V. Changes Since the Preliminary Results and Post-Preliminary Analysis

VI. Discussion of the Issues

Comment 1: Surrogate Country Selection

Comment 2: Interest Income Offset to the Selling, General, and Administrative (SG&A) Expense Ratio

Comment 3: Selection of Malaysian Surrogate Producer Financial Statements

Comment 4: Malaysian Labor Surrogate Value (SV)

Comment 5: Preliminary Margins Assigned to the Mandatory Respondents

Comment 6: Use of Zeroing

Comment 7: Differential Pricing Methodology

Comment 8: SV Selection for Radiata Pine Logs

Comment 9: Alleged Clerical Errors in Yinfeng/Mangrove's Preliminary Results

Comment 10: Whether to Apply Facts Available to Value Veneer Inputs

Comment 11: Application of Intermediate Input Methodology

Comment 12: SV Selection for Veneers

Comment 13: Valuation of Research and Development (R&D) Input Usage

Comment 14: Alleged Clerical Error in Longquan Jiefeng/Senya Board's Preliminary Results

Comment 15: Assignment of Importer-Specific Assessment Rate

Comment 16: U.S Importer/Customer Name Correction to Draft Liquidation Instructions

VII. Recommendation

Appendix II

Non-Selected Companies Receiving a Separate Rate

1. Anji Huaxin Bamboo & Wood Products Co., Ltd.

2. Bel Trade Wood Industrial Co., Ltd. Youxi Fujian

3. Composite Technology International Limited

4. Fotiou Frames Limited

5. Fujian Hongjia Craft Products Co., Ltd.

6. Fujian Jinquan Trade Co., Ltd./Fujian Province Youxi County Baiyuan Wood Machining Co., Ltd.

7. Nanping Huatai Wood & Bamboo Co., Ltd.

8. Shaxian Hengtong Wood Industry Co., Ltd.

9. Sun Valley Shado Co., Ltd.

10. Tim Feng Manufacturing Co., Ltd.

11. Zhangzhou Wanjiamei Industry & Trade. Co., Ltd.

Appendix III

Non-Selected Companies Ineligible for a Separate Rate

1. Fujian Wangbin Decorative Material Co., Ltd.

2. Shenzhen Xinjintai Industrial Co., Ltd.

[FR Doc. 2026-03678 Filed 2-23-26; 8:45 am]

BILLING CODE 3510-DS-P